DEPARTMENT OF ENERGY

Federal Energy Regulatory Commission

18 CFR Part 40

[Docket No. RM14-1-000]

Reliability Standard for Geomagnetic Disturbance Operations

AGENCY: Federal Energy Regulatory Commission, DOE.

ACTION: Notice of proposed rulemaking.

SUMMARY: Pursuant to section 215 of the Federal Power Act, the Federal Energy Regulatory Commission (Commission) proposes to approve Reliability Standard EOP-010-1 (Geomagnetic Disturbance Operations). The North American Electric Reliability Corporation, the Commission-certified Electric Reliability Organization, submitted the proposed Reliability Standard for Commission approval in response to a Commission directive in Order No. 779. Proposed Reliability Standard EOP-010-1 is designed to mitigate the effects of geomagnetic disturbances on the Bulk-Power System by requiring responsible entities to implement Operating Plans and Operating Procedures or Processes.

DATES: Comments are due March 24, 2014.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

Instructions: For detailed instructions on submitting comments and additional information on the rulemaking process, see the Comment Procedures Section of this document.

FOR FURTHER INFORMATION CONTACT:

Michael Gandolfo (Technical Information), Office of Electric Reliability, Federal Energy Regulatory Commission, 888 First Street NE., Washington, DC 20426, Telephone: (202) 502-6817, Michael.Gandolfo@ferc.gov.

Matthew Vlissides (Legal Information), Office of the General Counsel, Federal Energy Regulatory Commission, 888 First Street NE., Washington, DC 20426, Telephone: (202) 502-8408, Matthew.Vlissides@ferc.gov.

SUPPLEMENTARY INFORMATION:

146 FERC ¶ 61,015

Before Commissioners: Cheryl A. LaFleur, Acting Chairman; Philip D. Moeller, John R. Norris, and Tony Clark.

(Issued January 16, 2014)

1. Pursuant to section 215 of the Federal Power Act (FPA),¹ the Commission proposes to approve Reliability Standard EOP-010-1 (Geomagnetic Disturbance Operations). The North American Electric Reliability Corporation (NERC), the Commission-certified Electric Reliability Organization (ERO), submitted the proposed Reliability Standard for Commission approval in response to a Commission directive in Order No. 779.² The proposed Reliability Standard is designed to mitigate the effects of geomagnetic disturbances (GMDs) on the Bulk-Power System by requiring responsible entities to implement Operating Plans and Operating Procedures or Processes. The Commission also proposes to approve the associated violation risk factors and violation severity levels, implementation plan, and effective dates proposed by NERC.

¹ 16 U.S.C. 824o.

² Reliability Standards for Geomagnetic Disturbances, Order No. 779, 78 FR 30747 (May 23, 2013), 143 FERC ¶ 61,147, reh'g denied, 144 FERC ¶ 61,113 (2013).

I. Background

A. Section 215 and Mandatory Reliability Standards

2. Section 215 of the FPA requires the Commission to certify an ERO to develop mandatory and enforceable Reliability Standards, subject to Commission review and approval.³ Once approved, the Reliability Standards may be enforced in the United States by the ERO, subject to Commission oversight, or by the Commission independently.⁴

³ 16 U.S.C. 824o.

⁴ Id. 824o(e).

B. Order No. 779

3. In Order No. 779, the Commission directed NERC, pursuant to FPA section 215(d)(5), to develop and submit for approval proposed Reliability Standards that address the impact of GMDs on the reliable operation of the Bulk-Power System. The Commission based its directive on the potentially severe, wide-spread impact on the reliable operation of the Bulk-Power System that can be caused by GMD events and the absence of existing Reliability Standards to address GMD events.⁵

⁵ Order No. 779, 143 FERC ¶ 61,147 at P 3.

4. The Commission directed NERC to implement the directive in two stages. In the first stage, the Commission directed NERC to submit, within six months of the effective date of Order No. 779, one or more Reliability Standards (First Stage GMD Reliability Standards) that require owners and operators of the Bulk-Power System to develop and implement operational procedures to mitigate the effects of GMDs consistent with the reliable operation of the Bulk-Power System.⁶

⁶ Id. P 2.

5. In the second stage, the Commission directed NERC to submit, within 18 months of the effective date of Order No. 779, one or more Reliability Standards (Second Stage GMD Reliability Standards) that require owners and operators of the Bulk-Power System to conduct initial and on-going assessments of the potential impact of benchmark GMD events on Bulk-Power System equipment and the Bulk-Power System as a whole. Order No. 779 directed that the Second Stage GMD Reliability Standards must identify benchmark GMD events that specify what severity GMD events a responsible entity must assess for potential impacts on the Bulk-Power System.⁷ Order No. 779 explained that, if the assessments identify potential impacts from benchmark GMD events, the Reliability Standards should require owners and operators to develop and implement a plan to protect against instability, uncontrolled separation, or cascading failures of the Bulk-Power System, caused by damage to critical or vulnerable Bulk-Power System equipment, or otherwise, as a result of a benchmark GMD event. The Commission directed that the development of this plan could not be limited to considering operational procedures or enhanced training alone, but should, subject to the potential impacts of the benchmark GMD events identified in the assessments, contain strategies for protecting against the potential impact of GMDs based on factors such as the age, condition, technical specifications, system configuration, or location of specific equipment.⁸ Order No. 779 observed that these strategies could, for example, include automatically blocking geomagnetically induced currents from entering the Bulk-Power System, instituting specification requirements for new equipment, inventory management, isolating certain equipment that is not cost effective to retrofit, or a combination thereof.

⁷ Id.

⁸ Id.

C. NERC Petition

6. On November 13, 2013, NERC petitioned the Commission to approve proposed Reliability Standard EOP-010-1 and its associated violation risk factors and violation severity levels, implementation plan, and effective dates. NERC states that the proposed Reliability Standard is just, reasonable, not unduly discriminatory or preferential, and in the public interest. Further, NERC maintains that the proposed Reliability Standard satisfies the Commission's directive in Order No. 779 corresponding to the development and submission of the First Stage GMD Reliability Standards.

7. NERC states that, consistent with Order No. 779 and the NERC Functional Model, proposed Reliability Standard EOP-010-1 applies to reliability coordinators and to transmission operators with a “Transmission Operator Area that includes a power transformer with a high side wye-grounded winding with terminal voltage greater than 200 kV.” ⁹ NERC explains that the proposed Reliability Standard has three requirements: (1) Requirement R1 addresses coordination by reliability coordinators within their areas; (2) Requirement R2 addresses the dissemination of space weather information by reliability coordinators to ensure that entities within a reliability coordinator area have the appropriate information necessary to take action and that the same information is available to all entities; and (3) Requirement R3 requires transmission operators to develop GMD Operating Procedures or Processes.

⁹ NERC Petition at 8 (“A power transformer with a `high side wye-grounded winding' refers to a power transformer with windings on the high voltage side that are connected in a wye configuration and have a grounded neutral connection.”).

8. NERC states that Requirement R1 requires reliability coordinators to develop, maintain, and implement a GMD Operating Plan that coordinates the GMD Operating Procedures or Operating Processes within the reliability coordinator area.¹⁰ NERC explains that reliability coordinators are required to ensure that GMD Operating Procedures and Operating Processes in a reliability coordinator area are not in conflict, but reliability coordinators will not review the technical aspects of the GMD Operating Procedures and Operating Processes.¹¹ Instead, NERC points out that transmission operators will be responsible for the technical aspects of their Operating Procedures and Operating Processes. NERC further states that Requirement R1 requires reliability coordinators to describe the activities that must be undertaken in order to mitigate the effects of a GMD event. NERC explains that, pursuant to Reliability Standard IRO-001-1.1, reliability coordinators have decision-making authority to act and to direct actions to be taken by transmission operators, balancing authorities, generator operators, transmission service providers, load-serving entities, and purchasing-selling entities within their reliability coordinator area to preserve the reliability of the bulk electric system.

¹⁰ Operating Plan, Operating Procedure, and Operating Process are existing terms defined in the Glossary of Terms Used in NERC Reliability Standards. See Glossary of Terms Used in NERC Reliability Standards (effective November 21, 2013) at 49-50.

¹¹ NERC explains that “if Company A submitted an Operating Procedure proposing to take Line X out of service under specified GMD conditions, and Company B submitted an Operating Procedure that relies on Line X remaining in service in the event of a GMD—it is the responsibility of the Reliability Coordinator to identify this conflict.” NERC Petition at 11-12 (emphasis in original). Beyond identifying a conflict and requiring its resolution by Company A and Company B, NERC states that the review is “not intended to be a review by the Reliability Coordinator of the technical aspects of the GMD Operating Procedures or Processes.” Id.

9. NERC states that Requirement R2 requires reliability coordinators to disseminate space weather information to ensure coordination and consistent awareness in its reliability coordinator area. NERC maintains that entrusting this responsibility to reliability coordinators is appropriate given the reliability coordinator's wide-area view. NERC also explains that Requirement R2 replaces existing Requirement R3 of Reliability Standard IRO-005-3.1a, which currently addresses dissemination of information regarding GMD forecasts.¹²

¹² According to NERC, Reliability Standard IRO-005-3.1a will be retired once the Commission approves proposed Reliability Standard IRO-005-4, which is currently pending before the Commission. NERC Petition at 13.

10. NERC states that Requirement R3 requires transmission operators to develop GMD Operating Procedures or Operating Processes to address GMD events. NERC explains that Requirement R3 is not prescriptive and allows entities to tailor their Operating Procedures or Operating Processes based on the responsible entity's assessment of entity-specific factors, such as geography, geology, and system topology. According to NERC, Requirement R3 requires each transmission operator to specify: (1) Steps or tasks that must be conducted to receive space weather information; (2) what actions must be taken under what conditions, and such conditions must be predetermined; and (3) when and under what conditions the Operating Procedure or Operating Process is exited. NERC maintains that proposed Reliability Standard EOP-010-1 does not prescribe specific actions that must be taken by responsible entities because “a `one-size fits all' approach to crafting GMD Reliability Standards would fail to recognize the important role of locational differences.” ¹³

¹³ NERC Petition at 14.

II. Discussion

11. Pursuant to FPA section 215(d)(2), we propose to approve Reliability Standard EOP-010-1 as just, reasonable, not unduly discriminatory or preferential, and in the public interest. Proposed Reliability Standard EOP-010-1 addresses the directive in Order No. 779 that NERC submit one or more Reliability Standards that require owners and operators of the Bulk-Power System to develop and implement operational procedures to mitigate the effects of GMDs consistent with the reliable operation of the Bulk-Power System.¹⁴ As the Commission stated in Order No. 779, “operational procedures, while not a complete solution, constitute an important first step to addressing the GMD reliability gap because they can be implemented relatively quickly . . . [o]perational procedures may help alleviate abnormal system conditions due to transformer absorption of reactive power during GMD events, helping to stabilize system voltage swings, and may potentially isolate some equipment from being damaged or misoperated.” ¹⁵ The Commission seeks comments from interested entities on our proposal to approve proposed Reliability Standard EOP-010-1.

¹⁴ Proposed Reliability Standard EOP-010-1 only addresses the First Stage GMD Reliability Standards directed in Order No. 779. The proposed Reliability Standard does not address the Second Stage GMD Reliability Standards, which NERC indicates are under development. NERC Petition at 3.

¹⁵ Order No. 779, 143 FERC ¶ 61,147 at P 36.

A. Proposed Reliability StandardEOP-010-1

12. The Commission proposes to approve Reliability Standard EOP-010-1 based on our review of NERC's petition and supporting exhibits. We believe that the proposed Reliability Standard satisfies the directive in Order No. 779 that NERC submit one or more Reliability Standards that require owners and operators of the Bulk-Power System to develop and implement operational procedures to mitigate the effects of GMDs consistent with the reliable operation of the Bulk-Power System. Further, the proposed Reliability Standard is consistent with the guidance in Order No. 779 that NERC develop Reliability Standards that, rather than require specific operational procedures, require responsible entities to develop and implement entity-specific operational procedures because owners and operators of the Bulk-Power System are most familiar with their own equipment and system configurations.¹⁶ The proposed Reliability Standard also requires coordination of operational procedures and processes, overseen by a functional entity with a wide-area perspective (i.e., reliability coordinators), which is also consistent with the guidance in Order No. 779.¹⁷

¹⁶ Id. P 38.

¹⁷ Id.

13. With respect to the applicability of proposed Reliability Standard EOP-010-1, NERC submitted a white paper explaining the technical justification for basing the applicability of the proposed Reliability Standard, with respect to transmission operators, on the presence of a power transformer with a high side wye-grounded winding with terminal voltage greater than 200 kV in the transmission operator area.¹⁸ NERC also explains, in a separate white paper, its proposal regarding the applicability of the proposed Reliability Standard to reliability coordinators and transmission operators only.¹⁹ The White Paper Supporting Functional Entity Applicability explains that the reliability coordinator has “responsibility and authority for reliable operation within the Reliability Coordinator Area (RCA) . . . and includes a wide-area view with situational awareness of neighboring RCAs.” ²⁰ NERC states that including reliability coordinators as applicable entities “provides the necessary coordination for planning and real-time actions.” ²¹ With respect to transmission operators, NERC explains that “[l]ike the [reliability coordinator], the [transmission operator] has responsibility and authority for the reliable operation of the transmission system within a specified area.” ²² In addition, NERC justifies omitting balancing authorities and generator operators from the scope of the proposed Reliability Standard. NERC explains that balancing authorities “can be expected to address GMD impacts through use of generation . . . [but] the [balancing authority] would not initiate actions unilaterally during a GMD event and would instead respond to the direction of the [transmission operator] and [reliability coordinator].” ²³ As for generator operators, NERC states that some generator operators “would not have the technical basis for taking steps [to mitigate GMDs] on [their] own and would instead take steps based on the [reliability coordinator] or [transmission operator's] Operating Plans, Processes, or Procedures.” ²⁴ NERC also notes that generator owners and generator operators will be considered for inclusion in the Second Stage GMD Reliability Standards, “which will require applicable entities to conduct vulnerability assessment and develop appropriate mitigation strategies . . . [and that] [s]uch mitigation strategies could include the development of Operating Procedures for applicable [generator owners] and [generator operators].” ²⁵

¹⁸ NERC Petition, Exhibit D (White Paper Supporting Network Applicability) at 1.

¹⁹ NERC Petition, Exhibit E (White Paper Supporting Functional Entity Applicability).

²⁰ Id. at 2.

²¹ Id.

²² Id.

²³ Id. at 3-4.

²⁴ Id. at 4.

²⁵ Id.

14. We believe that the applicability designations in the proposed Reliability Standard are appropriate, based on the justifications set forth in the white papers in Exhibits D and E of NERC's petition.

B. Violation Risk Factors and Violation Severity Levels

15. Each requirement of proposed Reliability Standard EOP-010-1 includes one violation risk factor and has an associated set of at least one violation severity level. The ranges of penalties for violations will be based on the sanctions table and supporting penalty determination process described in the Commission-approved NERC Sanction Guidelines, according to the NERC petition. The Commission proposes to approve the proposed violation risk factors and violation severity levels for the requirements proposed in Reliability Standard EOP-010-1as consistent with the Commission's established guidelines.²⁶

²⁶ North American Electric Reliability Corp., 135 FERC ¶ 61,166 (2011).

C. Implementation Plan and Effective Dates

16. The NERC petition proposes that Reliability Standard EOP-010-1 become effective the “first day of the first calendar quarter that is six months after the date that this standard is approved by an applicable governmental authority.” ²⁷ However, NERC states that Requirement R2 of Reliability Standard EOP-010-1, pertaining to reliability coordinator dissemination of space weather information, is meant to replace existing Requirement R3 of Reliability Standard IRO-005-3.1a, which includes similar language. Therefore, to avoid duplicative requirements being enforced at the same time, NERC proposes that, if Reliability Standard EOP-010-1 becomes effective prior to the retirement of Reliability Standard IRO-005-3.1a, then Requirement R2 of Reliability Standard EOP-010-1 will not become effective until the first day following retirement of Reliability Standard IRO-005-3.1a.²⁸ Requirements R1 and R3 of Reliability Standard EOP-010-1 will still be effective the first day of the first calendar quarter that is six months after the date that the proposed Reliability Standard is approved by an applicable governmental authority.²⁹ The Commission proposes to accept NERC's implementation plan and effective dates for proposed Reliability Standard EOP-010-1.

²⁷ NERC Petition, Exhibit B (Implementation Plan) at 2.

²⁸ We agree with NERC that Reliability Standard IRO-005-3.1a, Requirement R3, which requires that “[e]ach Reliability Coordinator shall ensure its Transmission Operators and Balancing Authorities are aware of Geo-Magnetic Disturbance (GMD) forecast information and assist as needed in the development of any required response plans,” and Requirement R2 of proposed Reliability Standard EOP-010-1, which requires that “[e]ach Reliability Coordinator shall disseminate forecasted and current space weather information to functional entities identified as recipients in the Reliability Coordinator's GMD Operating Plan,” are largely duplicative in that both requirements require the dissemination of GMD forecast information, at a minimum, to applicable transmission operators.

²⁹ Id. On April 16, 2013, NERC submitted a petition requesting approval of three revised IRO Reliability Standards and the retirement or revision of six currently-effective Reliability Standards, including IRO-005-3.1a (Docket No. RM13-15-000). On November 21, 2013, the Commission issued a Notice of Proposed Rulemaking that, inter alia, proposes to remand the proposed IRO Reliability Standards and related retirements and revisions. See Monitoring System Conditions—Transmission Operations Reliability Standard, Transmission Operation Reliability Standards, Interconnection Reliability Operations and Coordination Reliability Standards, Notice of Proposed Rulemaking, 78 FR 73112 (Dec. 5, 2013), 145 FERC ¶ 61,158 (2013).

III. Information Collection Statement

17. The Office of Management and Budget (OMB) regulations require approval of certain information collection requirements imposed by agency rules. Upon approval of a collection(s) of information, OMB will assign an OMB control number and an expiration date. Respondents subject to the filing requirements of an agency rule will not be penalized for failing to respond to these collections of information unless the collections of information display a valid OMB control number. The Paperwork Reduction Act (PRA) requires each federal agency to seek and obtain OMB approval before undertaking a collection of information directed to ten or more persons, or contained in a rule of general applicability.

18. The Commission is submitting these reporting requirements to OMB for its review and approval under section 3507(d) of the PRA. Comments are solicited on the Commission's need for this information, whether the information will have practical utility, ways to enhance the quality, utility, and clarity of the information to be collected, and any suggested methods for minimizing the respondent's burden, including the use of automated information techniques.

19. The Commission based its paperwork burden estimates on the NERC compliance registry as of November 27, 2013. According to the registry, there are 16 reliability coordinators and 183 transmission operators.

20. The Commission estimates an increased burden for each requirement, as dictated in the chart below, for a total estimated burden of $238,800. The Commission based the burden estimates on staff experience, knowledge, and expertise:

Burden Estimate for Implementation of Proposed Reliability Standard EOP-010-1
Reliability standard number | Type of respondents | Number of respondents ³⁰ (1) | Number of responses per respondent (2) | Average burden hours per response (3) | Total annual burden hours (1)(2)(3) | Total annual cost ³¹
EOP-010-1 (R1) | Reliability Coordinator | 16 | 1 | 20 | 320 | $19,200 ($60/hr).
EOP-010-1 (R3) | Transmission Operator | 183 | 1 | 20 | 3660 | $219,600 ($60/hr).
Total |  |  |  |  | 3980 | $238,800.

21. The above chart does not include Reliability Standard EOP-010-1, Requirement R2 because, as NERC states, that requirement replaces IRO-005-3.1a, Requirement R3 and has no change in overall burden. In addition, while our burden estimate with respect to Reliability Standard EOP-010-1, Requirement R3 assumes that all 183 transmission operators are subject to that requirement, we note that not all 183 transmission operators are likely to be subject to Requirement R3 because that requirement only applies to transmission operators with a Transmission Operator Area that includes a power transformer with a high side, wye-grounded winding with terminal voltage greater than 200 kV.

³⁰ This number was calculated by adding all the applicable entities while removing double counting caused by entities registered under multiple functions.

³¹The estimated hourly loaded cost (salary plus benefits) for an engineer is assumed to be $60/hour, based on salaries as reported by the Bureau of Labor Statistics (BLS) (http://bls.gov/oes/current/naics2_22.htm). Loaded costs are BLS rates divided by 0.703 and rounded to the nearest dollar (http://www.bls.gov/news.release/ecec.nr0.htm).

Title: FERC-725S, Mandatory Reliability Standards: Reliability Standard EOP-010-1.

Action: Proposed Collection of Information.

OMB Control No: To be determined.

Respondents: Business or other for profit, and not for profit institutions.

Frequency of Responses: One-time.

Necessity of the Information: The proposed Reliability Standard EOP-010-1, if adopted, would implement the Congressional mandate of the Energy Policy Act of 2005 to develop mandatory and enforceable Reliability Standards to better ensure the reliability of the nation's Bulk-Power System. Specifically, the proposal would ensure that responsible entities have Operating Plans and Operating Procedures or Processes in place to mitigate the effects of geomagnetic disturbances on the Bulk-Power System.

Internal review: The Commission has reviewed the proposed changes and has determined that the changes are necessary to ensure the reliability and integrity of the Nation's Bulk-Power System.

22. Interested persons may obtain information on the reporting requirements by contacting: Federal Energy Regulatory Commission, 888 First Street NE., Washington, DC 20426 [Attention: Ellen Brown, Office of the Executive Director, email: DataClearance@ferc.gov, Phone: (202) 502-8663, fax: (202) 273-0873]. Comments on the requirements of this rule may also be sent to the Office of Information and Regulatory Affairs, Office of Management and Budget, Washington, DC 20503 [Attention: Desk Officer for the Federal Energy Regulatory Commission]. For security reasons, comments should be sent by email to OMB at oira_submission@omb.eop.gov. Comments submitted to OMB should include Docket Number RM14-1-000.

IV. Environmental Analysis

23. The Commission is required to prepare an Environmental Assessment or an Environmental Impact Statement for any action that may have a significant adverse effect on the human environment.³² The Commission has categorically excluded certain actions from this requirement as not having a significant effect on the human environment. Included in the exclusion are rules that are clarifying, corrective, or procedural or that do not substantially change the effect of the regulations being amended.³³ The actions proposed here fall within this categorical exclusion in the Commission's regulations.

³² Regulations Implementing the National Environmental Policy Act, Order No. 486, 52 FR 47897 (Dec. 17, 1987), FERC Stats. & Regs., Regulations Preambles 1986-1990 ¶ 30,783 (1987).

³³ 18 CFR 380.4(a)(2)(ii).

V. Regulatory Flexibility Act

24. The Regulatory Flexibility Act of 1980 (RFA) ³⁴ generally requires a description and analysis of proposed rules that will have significant economic impact on a substantial number of small entities.

³⁴ 5 U.S.C. 601-612.

25. Comparison of the NERC compliance registry with data submitted to the Energy Information Administration on Form EIA-861 indicates that perhaps as many as 34 small entities are registered as transmission operators and no small entities are registered as reliability coordinators. However, the Commission estimates that there will be no material change in burden for the 34 transmission operators that qualify as small entities because they will likely not be affected by proposed Reliability Standard EOP-010-1. Proposed Reliability Standard EOP-010-1 applies to transmission operators with a Transmission Operator Area that includes a power transformer with a high side, wye-grounded winding with terminal voltage greater than 200 kV. Transmission operators with Transmission Operator Areas that include a power transformer with a high side, wye-grounded winding with terminal voltage greater than 200 kV are generally large entities serving substantial geographical areas with significant energy output.

26. Based on the above, the Commission certifies that the proposed Reliability Standard EOP-010-1 will not have a significant impact on a substantial number of small entities. Accordingly, no initial regulatory flexibility analysis is required. The Commission seeks comment on the Commission's proposed certification.

VI. Comment Procedures

27. The Commission invites interested persons to submit comments on the matters and issues proposed in this notice to be adopted, including any related matters or alternative proposals that commenters may wish to discuss. Comments are due March 24, 2014. Comments must refer to Docket No. RM14-1-000, and must include the commenter's name, the organization they represent, if applicable, and their address in their comments.

28. The Commission encourages comments to be filed electronically via the eFiling link on the Commission's Web site at http://www.ferc.gov. The Commission accepts most standard word processing formats. Documents created electronically using word processing software should be filed in native applications or print-to-PDF format and not in a scanned format. Commenters filing electronically do not need to make a paper filing.

29. Commenters that are not able to file comments electronically must send an original of their comments to: Federal Energy Regulatory Commission, Secretary of the Commission, 888 First Street NE., Washington, DC 20426.

30. All comments will be placed in the Commission's public files and may be viewed, printed, or downloaded remotely as described in the Document Availability section below. Commenters on this proposal are not required to serve copies of their comments on other commenters.

VII. Document Availability

31. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street NE., Room 2A, Washington, DC 20426.

32. From the Commission's Home Page on the Internet, this information is available on eLibrary. The full text of this document is available on eLibrary in PDF and Microsoft Word format for viewing, printing, and/or downloading. To access this document in eLibrary, type the docket number excluding the last three digits of this document in the docket number field.

33. User assistance is available for eLibrary and the Commission's Web site during normal business hours from the Commission's Online Support at 202-502-6652 (toll free at 1-866-208-3676) or email at ferconlinesupport@ferc.gov, or the Public Reference Room at (202) 502-8371, TTY (202) 502-8659. Email the Public Reference Room at public.referenceroom@ferc.gov.

By direction of the Commission.
Nathaniel J. Davis, Sr.,
Deputy Secretary.

[FR Doc. 2014-01143 Filed 1-21-14; 8:45 am]

BILLING CODE 6717-01-P